DEPARTMENT OF ENERGY

Federal Energy Regulatory Commission

[Docket No. RP00-447-000]

Colorado Interstate Gas Company; Tariff Filing

August 14, 2000.

Take notice that on August 8, 2000, Colorado Interstate Gas Company (“CIG”), P.O. Box 1087, Colorado Springs, Colorado 80944, tendered for filing to become part of its FERC Gas Tariff, First Revised Volume No. 1, tariff sheets as listed in the attached Appendix A.

CIG states these tariff sheets reflect the changes to its tariff to comply with the requirements of Order Nos. 637, 637-A and 637-B (“Order”). Effective March 27, 2000, Order No. 637 removed the maximum rate ceiling applicable to capacity releases of less than one year. The rate ceiling will be reinstated at the start of the gas day on September 30, 2002, unless the Commission takes future action to extend the removal of the rate ceiling.

CIG further states that copies of this filing have been served on CIG's jurisdictional customers and public bodies.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-21026 Filed 8-17-00; 8:45 am]

BILLING CODE 6717-01-M